DEPARTMENT OF TRANSPORTATION

Federal Railroad Administration

Proposed Agency Information Collection Activities; Comment Request

AGENCY: Federal Railroad Administration, DOT.

ACTION: Notice.

SUMMARY: In accordance with the Paperwork Reduction Act of 1995 and its implementing regulations, the Federal Railroad Administration (FRA) hereby announces that it is seeking renewal of the following currently approved information collection activities. Before submitting these information collection requirements for clearance by the Office of Management and Budget (OMB), FRA is soliciting public comment on specific aspects of the activities identified below.

DATES: Comments must be received no later than February 13, 2006.

ADDRESSES: Submit written comments on any or all of the following proposed activities by mail to either: Mr. Robert Brogan, Office of Safety, Planning and Evaluation Division, RRS-21, Federal Railroad Administration, 1120 Vermont Ave., NW., Mail Stop 17, Washington, DC 20590, or Mr. Victor Angelo, Office of Support Systems, RAD-20, Federal Railroad Administration, 1120 Vermont Ave., NW., Mail Stop 35, Washington, DC 20590. Commenters requesting FRA to acknowledge receipt of their respective comments must include a self-addressed stamped postcard stating, “Comments on OMB control number 2130-0500''. Alternatively, comments may be transmitted via facsimile to (202) 493-6265 or (202) 493-6170, or E-mail to Mr. Brogan at robert.brogan@fra.dot.gov, or to Mr. Angelo at victor.angelo@fra.dot.gov. Please refer to the assigned OMB control number in any correspondence submitted. FRA will summarize comments received in response to this notice in a subsequent notice and include them in its information collection submission to OMB for approval.

FOR FURTHER INFORMATION CONTACT: Mr. Robert Brogan, Office of Planning and Evaluation Division, RRS-21, Federal Railroad Administration, 1120 Vermont Ave., NW., Mail Stop 17, Washington, DC 20590 (telephone: (202) 493-6292) or Victor Angelo, Office of Support Systems, RAD-20, RAD-20, Federal Railroad Administration, 1120 Vermont Ave., NW., Mail Stop 35, Washington, DC 20590 (telephone: (202) 493-6470). (These telephone numbers are not toll-free.)

SUPPLEMENTARY INFORMATION: The Paperwork Reduction Act of 1995 (PRA), Public Law No. 104-13, section 2, 109 Stat. 163 (1995) (codified as revised at 44 U.S.C. 3501-3520), and its implementing regulations, 5 CFR Part 1320, require Federal agencies to provide 60-days notice to the public for comment on information collection activities before seeking approval for reinstatement or renewal by OMB. 44 U.S.C. 3506(c)(2)(A); 5 CFR 1320.8(d)(1), 1320.10(e)(1), 1320.12(a). Specifically, FRA invites interested respondents to comment on the following summary of proposed information collection activities regarding (i) whether the information collection activities are necessary for FRA to properly execute its functions, including whether the activities will have practical utility; (ii) the accuracy of FRA's estimates of the burden of the information collection activities, including the validity of the methodology and assumptions used to determine the estimates; (iii) ways for FRA to enhance the quality, utility, and clarity of the information being collected; and (iv) ways for FRA to minimize the burden of information collection activities on the public by automated, electronic, mechanical, or other technological collection techniques or other forms of information technology (e.g., permitting electronic submission of responses). See 44 U.S.C. 3506(c)(2)(A)(i)-(iv); 5 CFR 1320.8(d)(1)(i)-(iv). FRA believes that soliciting public comment will promote its efforts to reduce the administrative and paperwork burdens associated with the collection of information mandated by Federal regulations. In summary, FRA reasons that comments received will advance three objectives: (i) Reduce reporting burdens; (ii) ensure that it organizes information collection requirements in a “user friendly” format to improve the use of such information; and (iii) accurately assess the resources expended to retrieve and produce information requested. See 44 U.S.C. 3501.

Below is a brief summary of currently approved information collection activities that FRA will submit for clearance by OMB as required under the PRA:

Title: Accident/Incident Reporting and Recordkeeping.

OMB Control Number: 2130-0500.

Abstract: The collection of information is due to the railroad accident reporting regulations set forth in 49 CFR part 225 which require railroads to submit monthly reports summarizing collisions, derailments, and certain other accidents/incidents involving damages above a periodically revised dollar threshold, as well as certain injuries to passengers, employees, and other persons on railroad property. Because the reporting requirements and the information needed regarding each category of accident/incident are unique, a different form is used for each category.

Form Number(s): FRA F 6180.54; 55; 55A; 56; 57; 78; 81; 97; 98; 99; 107.

Affected Public: Businesses.

Respondent Universe: 685 railroads.

Frequency of Submission: On occasion.

Reporting Burden:

CFR section | Respondent universe | Total annual responses | Average time per response | Total annual burden hours | Total annual burden cost (dollars)
225.9—Telephone Reports of Certain Accidents/Incidents and Other Events | 685 railroads | 500 phone reports | 15 minutes | 125 hours | $4,750
225.11—Reporting of Rail Equipment Accidents/Incidents—Form FRA F 6180.54 | 685 railroads | 3,000 forms | 2 hours | 6,000 hours | 228,000
225.12—Rail Equipment Accident/Incident Reports Alleging Human Factor as Cause—Form FRA F 6180.81 | 685 railroads | 1,000 forms | 15 minutes | 250 hours | 9,500
Part I Form FRA F 6180.78 (Notices) | 685 railroads | 1,000 notices + 4,100 copies | 10 minutes + 3 minutes | 372 hours | 14,136
Joint Operations | 685 railroads | 100 requests | 20 minutes | 33 hours | 1,254
Late Identification | 685 railroads | 20 attachments + 20 notices | 15 minutes | 10 hours | 380
Employee Statement Supplementing Railroad Accident Report (Part II Form FRA 6180.78) | Railroad employees | 75 statements | 1.5 hours | 113 hours | 4,972
Employee Confidential Letter | Railroad employees | 10 letters | 2 hours | 20 hours | 880
225.13—Late Reports | 685 railroads | 50 amended rpts. + 40 copies | 1 hour + 3 minutes | 52 hours | 1,976
225.17—Doubtful Cases; Alcohol or Drug Involvement: Narrative Reports to FRA | 685 railroads | 80 reports | 30 minutes | 40 hours | 1,520
Appended reports required by § 219.209(b) | 685 railroads | 5 reports | 30 minutes | 3 hours | 114
225.19—Rail-Highway Grade Crossing Accident/Incident Report—Form FRA F 6180.57 | 685 railroads | 3,000 forms | 2 hours | 6,000 hours | 228,000
Death, Injury, or Occupational Illness (Form FRA F 6180.55a) | 685 railroads | 12,000 forms | 20 minutes | 4,000 hours | 152,000
225.21—Railroad Injury and Illness Summary—Form FRA F 6180.55 | 685 railroads | 8,220 forms | 10 minutes | 1,370 hours | 52,060
225.21—Annual Railroad Report of Employee Hours and Casualties, By State—Form FRA F 6180.56 | 685 railroads | 685 forms | 15 minutes | 171 hours | 6,498
225.21/25—Railroad Employee Injury and/or Illness Record—Form FRA F 6180.98 | 685 railroads | 18,000 forms | 60 minutes | 18,000 hours | 792,000
Copies of Forms to Employees | 685 railroads | 540 form copies | 2 minutes | 18 hours | 792
225.21—Initial Rail Equipment Accident/Incident Record—Form FRA F 6180.97 | 685 railroads | 13,000 forms | 30 minutes | 6,500 hours | 286,000
225.21—Alternative Record for Illnesses Claimed to Be Work Related—Form FRA F 6180.107 | 685 railroads | 300 forms | 15 minutes | 75 hours | 2,850
225.25 (h)—Posting of Monthly Summary | 685 railroads | 8,220 lists | 16 minutes | 2,192 hours | 83,296
225.27—Retention of Records | 685 railroads | 1,900 records | 2 minutes | 63 hours | 2,394
225.33—Internal Control Plans—Amendments | 685 railroads | 25 amendments | 14 hours | 350 hours | 13,300
225.35—Access to Records and Reports | 15 railroads | 400 lists | 20 minutes | 133 hours | 5,054
Subsequent Years | 4 railroads | 16 lists | 20 minutes | 5 hours | 190
225.37—Magnetic Media Transfer and Electronic Submission | 8 railroads | 96 transfers | 10 minutes | 16 hours | 608
Electronic Submission: Batch Control Forms (6180.99) and Form FRA F 6180.55 | 685 railroads | 200 forms | 3 minutes | 10 hours | 380

Total Responses: 76,602.

Estimated Total Annual Burden: 45,921 hours.

Status: Regular Review.

Pursuant to 44 U.S.C. 3507(a) and 5 CFR 1320.5(b), 1320.8(b)(3)(vi), FRA informs all interested parties that it may not conduct or sponsor, and a respondent is not required to respond to, a collection of information unless it displays a currently valid OMB control number.

Authority: 44 U.S.C. 3501-3520.

Issued in Washington, DC on December 7, 2005.
D.J. Stadtler,
Director, Office of Budget, Federal Railroad Administration.

[FR Doc. E5-7288 Filed 12-13-05; 8:45 am]

BILLING CODE 4910-06-P